ENVIRONMENTAL PROTECTION AGENCY

40 CFR Part 52

[EPA-R09-OAR-2020-0213; FRL-10013-66-Region 9]

Air Plan Approval; California; Consumer Products Regulations

AGENCY: Environmental Protection Agency (EPA).

ACTION: Final rule.

SUMMARY: The Environmental Protection Agency (EPA) is taking final action to approve revisions to the California Air Resources Board's (CARB's) Consumer Products portion of the California State Implementation Plan (SIP). These revisions concern volatile organic compound (VOC) emissions from consumer products and a supporting test method. The EPA is also approving revisions to California's Tables of Maximum Incremental Reactivity (MIR) Values to support its Aerosol Coating Products regulation. We are approving state rules to regulate these emission sources under the Clean Air Act (CAA or the Act).

DATES: This rule is effective October 16, 2020.

ADDRESSES: The EPA has established a docket for this action under Docket ID No. EPA-R09-OAR-2020-0213. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Jeffrey Buss, EPA Region IX, (415) 947-4152, buss.jeffrey@epa.gov.

SUPPLEMENTARY INFORMATION: Throughout this document, “we,” “us” and “our” refer to the EPA.

Table of Contents

I. Proposed Action

II. Public Comments and EPA Responses

III. EPA Action

IV. Incorporation by Reference

V. Statutory and Executive Order Reviews

I. Proposed Action

The Consumer Products portion of the California SIP consists of rules promulgated in title 17 of the California Code of Regulations (17 CCR), division 3 (“Air Resources”), chapter 1 (“Air Resources Board”), subchapter 8.5 (“Consumer Products”), article 1 (“Antiperspirants and Deodorants”), article 2 (“Consumer Products”) and article 3 (“Aerosol Coating Products”); and subchapter 8.6 (“Maximum Incremental Reactivity”), article 1 (“Tables of Maximum Incremental Reactivity (MIR) Values”).

On May 29, 2020 (85 FR 32324), the EPA proposed to approve the following amendments to the Consumer Products portion of the California SIP.

Table 1—Submitted Rules
Local agency | California code of regulations | Title | Amended ¹ | Submitted
CARB | Title 17, Division 3, Chapter 1, Subchapter 8.5, Article 1 | Antiperspirants and Deodorants ² | 05/25/2018 | 06/04/2019
CARB | Title 17, Division 3, Chapter 1, Subchapter 8.5, Article 2 | Consumer Products ³ | 05/25/2018 | 06/04/2019
CARB | Title 17, Division 3, Chapter 1, Subchapter 8.5, Article 3 | Aerosol Coating Products⁴ | 09/17/2014 | 12/01/2016
CARB | Title 17, Division 3, Chapter 1, Subchapter 8.6, Article 1 | Tables of Maximum Incremental Reactivity (MIR) Values ⁵ | 09/17/2014 | 12/01/2016
CARB |  | Method 310—Determination of Volatile Organic Compounds (VOC) in Consumer Products and Reactive Organic Compounds (ROC) in Aerosol Coating Products | 05/25/2018 | 06/04/2019

The current amendments to article 1 (“Antiperspirants and Deodorants”) of subchapter 8.5 update certain definitions and references. The current amendments to article 2 (“Consumer Products”) of subchapter 8.5 revise certain definitions, lower certain VOC standards, and clarify and update certain administrative and reporting requirements. Current amendments to article 3 (“Aerosol Coating Products”) of subchapter 8.5 clarify applicability, revise certain definitions, delete mass-based VOC limits and add new, lower reactivity-based limits for general and specialty aerosol coatings. Lastly, the current amendments to article 1 (“Tables of Maximum Incremental Reactivity (MIR) Values”) of subchapter 8.6 (“Maximum Incremental Reactivity”) update MIR values for many individual chemical compounds and hydrocarbon solvent groupings. CARB estimates that the current amendments will result in equivalent VOC emission reductions of approximately 4 tons per day (tpd) statewide, of which approximately 1.8 tpd will occur in the area under the jurisdiction of the South Coast Air Quality Management District.

¹ CARB adopted amendments to articles 1, 2 and 3 of subchapter 8.5 and article 1 of subchapter 8.6 on September 26, 2013. The California Office of Administrative Law (OAL) approved the amendments on September 17, 2014, effective January 1, 2015. CARB submitted the September 26, 2013 amendments to the EPA as a SIP revision on December 1, 2016. CARB adopted amendments to Method 310 on May 25, 2018 and submitted Method 310, as amended, to the EPA as a SIP revision on June 4, 2019.

² Article 1 of subchapter 8.5 includes sections 94500, 94501, 94502, 94503, 94503.5, 94504, 94505, 94506 and 94506.5. Amendments to a section of Article 1, 17 California Code of Regulations (CCR) section 94506 (“Test Methods”), were adopted by CARB on May 25, 2018, and approved by the California OAL on December 31, 2018, effective January 1, 2019. CARB submitted the May 25, 2018 amendments to the EPA as a SIP revision by letter dated June 4, 2019.

³ Article 2 of subchapter 8.5 includes sections 94507 through 94517. Amendments to a subset of these rules, 17 CCR sections 94509, 94513 and 94515, were adopted by CARB on May 25, 2018, and approved by the California OAL on December 31, 2018, effective January 1, 2019. CARB submitted the May 25, 2018 amendments to the EPA as a SIP revision by letter dated June 4, 2019.

⁴ Article 3 of subchapter 8.5 includes sections 94520 through 94528.

⁵ Article 1 of subchapter 8.6 includes sections 94700 and 94701.

We proposed to approve the amended rules because we determined that they comply with the relevant CAA requirements. We also found that, overall, CARB's rules are the same or more stringent than the corresponding national rules. Our proposed action and the related technical support documents contain more information on the rules and our evaluation.

II. Public Comments and EPA Responses

The EPA's proposed action provided a 30-day public comment period. During this period, we received no comments.

III. EPA Action

Pursuant to section 110(k)(3) of the Act, and for the reasons set forth in the proposed rule and summarized above, the EPA is fully approving the revisions to the CARB's Consumer Products portion of the California SIP as submitted on December 1, 2016 and June 4, 2019.

IV. Incorporation by Reference

In this rule, the EPA is finalizing regulatory text that includes incorporation by reference. In accordance with requirements of 1 CFR 51.5, the EPA is finalizing the incorporation by reference of the California rules described in the amendments to 40 CFR part 52 set forth below. Therefore, these materials have been approved by the EPA for inclusion in the SIP, have been incorporated by reference by the EPA into that plan, are fully federally enforceable under sections 110 and 113 of the CAA as of the effective date of the final rulemaking of the EPA's approval, and will be incorporated by reference in the next update to the SIP compilation.⁶ The EPA has made, and will continue to make, these documents available through www.regulations.gov and at the EPA Region IX Office (please contact the person identified in the FOR FURTHER INFORMATION CONTACT section of this preamble for more information).

⁶ 62 FR 27968 (May 22, 1997).

V. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 3, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 16, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects

Environmental protection, Air pollution control, Incorporation by reference, Intergovernmental relations, Ozone, Reporting and recordkeeping requirements, Volatile organic compounds.

Authority: 42 U.S.C. 7401 et seq.

Dated: August 13, 2020.
John Busterud,
Regional Administrator, Region IX.

For the reasons stated in the preamble, the EPA amends chapter I, title 40 of the Code of Federal Regulations as follows:

PART 52 — APPROVAL AND PROMULGATION OF IMPLEMENTATION PLANS

1. The authority citation for Part 52 continues to read as follows:

Authority: 42 U.S.C. 7401 et seq.

Subpart F—California

2. In § 52.220a:

a. In paragraph (c):

i. Amend table 1 by revising the entries for “94500”, “94501”, “94502”, “94503”, “94503.5”, “94504”, “94505”, “94506”, “94506.5”, “94507”, “94508”, “94509”, “94510”, “94511”, “94512”, “94513”, “94514”, “94515”, “94516”, “94517”, “94520”, “94521”, “94522”, “94523”, “94524”, “94525”, “94526”, “94527” and “94528”; and

ii. Amend table 2 by adding an entry for “Method 310—Determination of Volatile Organic Compounds (VOC) in Consumer Products and Reactive Organic Compounds (ROC) in Aerosol Coating Products” at the end of the table.

The revisions and addition read as follows:

§ 52.220a Identification of plan—in part.

* * * * *

(c) * * *

Table 1—EPA-Approved Statutes and State Regulations ¹
State citation | Title/subject | State effective date | EPA approval date | Additional explanation
* * * * * * *
94500 | Applicability | 3/30/1996 | [Insert Federal Register citation], 9/16/2020 | Submitted by CARB on December 1, 2016.
94501 | Definitions | 1/1/2015 | [Insert Federal Register citation], 9/16/2020 | Submitted by CARB on December 1, 2016.
94502 | Standards for Antiperspirants and Deodorants | 6/6/2001 | [Insert Federal Register citation], 9/16/2020 | Submitted by CARB on December 1, 2016.
94503 | Exemptions | 3/30/1996 | [Insert Federal Register citation], 9/16/2020 | Submitted by CARB on December 1, 2016.
94503.5 | Innovative Products | 3/30/1996 | [Insert Federal Register citation], 9/16/2020 | Submitted by CARB on December 1, 2016.
94504 | Administrative Requirements | 6/6/2001 | [Insert Federal Register citation], 9/16/2020 | Submitted by CARB on December 1, 2016.
94505 | Variances | 3/30/1996 | [Insert Federal Register citation], 9/16/2020 | Submitted by CARB on December 1, 2016.
94506 | Test Methods | 1/1/2019 | [Insert Federal Register citation], 9/16/2020 | Submitted by CARB on June 4, 2019.
94506.5 | Federal Enforceability | 12/16/1999 | [Insert Federal Register citation], 9/16/2020 | Submitted by CARB on December 1, 2016.
* * * * * * *
94507 | Applicability | 11/19/2000 | [Insert Federal Register citation], 9/16/2020 | Submitted by CARB on December 1, 2016.
94508 | Definitions | 1/1/2015 | [Insert Federal Register citation], 9/16/2020 | Submitted by CARB on December 1, 2016.
94509 | Standards for Consumer Products | 1/1/2019 | [Insert Federal Register citation], 9/16/2020 | Submitted by CARB on June 4, 2019.
94510 | Exemptions | 12/10/2011 | [Insert Federal Register citation], 9/16/2020 | Submitted by CARB on December 1, 2016.
94511 | Innovative Products | 10/20/2010 | [Insert Federal Register citation], 9/16/2020 | Submitted by CARB on December 1, 2016.
94512 | Administrative Requirements | 1/1/2015 | [Insert Federal Register citation], 9/16/2020 | Submitted by CARB on December 1, 2016.
94513 | Reporting Requirements | 1/1/2019 | [Insert Federal Register citation], 9/16/2020 | Submitted by CARB on June 4, 2019.
94514 | Variances | 12/8/2007 | [Insert Federal Register citation], 9/16/2020 | Submitted by CARB on December 1, 2016.
94515 | Test Methods | 1/1/2019 | [Insert Federal Register citation], 9/16/2020 | Submitted by CARB on June 4, 2019.
94516 | Severability | 10/21/1991 | [Insert Federal Register citation], 9/16/2020 | Submitted by CARB on December 1, 2016.
94517 | Federal Enforceability | 11/18/1997 | [Insert Federal Register citation], 9/16/2020 | Submitted by CARB on December 1, 2016.
* * * * * * *
94520 | Applicability | 1/1/2015 | [Insert Federal Register citation], 9/16/2020 | Submitted by CARB on December 1, 2016.
94521 | Definitions | 1/1/2015 | [Insert Federal Register citation], 9/16/2020 | Submitted by CARB on December 1, 2016.
94522 | Reactivity Limits and Requirements | 1/1/2015 | [Insert Federal Register citation], 9/16/2020 | Submitted by CARB on December 1, 2016.
94523 | Exemptions | 1/1/2015 | [Insert Federal Register citation], 9/16/2020 | Submitted by CARB on December 1, 2016.
94524 | Administrative Requirements | 1/1/2015 | [Insert Federal Register citation], 9/16/2020 | Submitted by CARB on December 1, 2016.
94525 | Variances | 1/1/2015 | [Insert Federal Register citation], 9/16/2020 | Submitted by CARB on December 1, 2016.
94526 | Test Methods and Compliance Verification | 1/1/2015 | [Insert Federal Register citation], 9/16/2020 | Submitted by CARB on December 1, 2016.
94527 | Severability | 1/8/1996 | [Insert Federal Register citation], 9/16/2020 | Submitted by CARB on December 1, 2016.
94528 | Federal Enforceability | 1/1/2015 | [Insert Federal Register citation], 9/16/2020 | Submitted by CARB on December 1, 2016.
* * * * * * *
94700 | MIR Values for Compounds | 1/1/2015 | [Insert Federal Register citation], 9/16/2020 | Submitted by CARB on December 1, 2016.
94701 | MIR Values for Hydrocarbon Solvents | 10/2/2010 | [Insert Federal Register citation], 9/16/2020 | Submitted by CARB on December 1, 2016.
¹ Table 1 lists EPA-approved California statutes and regulations incorporated by reference in the applicable SIP. Table 2 of paragraph (c) lists approved California test procedures, test methods and specifications that are cited in certain regulations listed in table 1. Approved California statutes that are nonregulatory or quasi-regulatory are listed in paragraph (e).

Table 2—EPA-Approved California Test Procedures, Test Methods, and Specifications
Title/subject | State effective date | EPA approval date | Additional explanation
* * * * * * *
Method 310—Determination of Volatile Organic Compounds (VOC) in Consumer Products and Reactive Organic Compounds (ROC) in Aerosol Coating Products | 5/25/2018 | [Insert Federal Register citation], 9/16/2020 | Submitted by CARB on June 4, 2019.

* * * * *

[FR Doc. 2020-18113 Filed 9-15-20; 8:45 am]

BILLING CODE 6560-50-P